DEPARTMENT OF ENERGY

Voluntary Reporting Greenhouse Gas Emissions Reporting Program

AGENCY: Office of Policy and International Affairs, Department of Energy.

ACTION: Notice of public workshops.

SUMMARY: The Department of Energy (We, DOE, or the Department) will hold four public workshops to enable interested persons to discuss and provide comments on possible improvements to the guidelines that now govern the Department of Energy's Voluntary Greenhouse Gas Reporting Program. These workshops are intended to assist DOE and other participating agencies in their efforts to enhance the reporting of greenhouse gas emissions and emission reductions, as directed by the President on February 14, 2002. Each of the four workshops are expected to address the full range of issues related to the Department of Energy's Voluntary Greenhouse Gas Emissions Reporting (1605b) Program.

DATES: The Department will hold four public workshops, as follows:

Washington DC, November 18-19, 2002.

Chicago, December 5-6, 2002.

San Francisco, December 9-10, 2002.

Houston, December 12-13, 2002.

At least three weeks before each workshop, all persons who plan to attend are requested to register with the Department through the following website: http://www.pi.energy.gov/enhancingGHGregistry/index.html. After these workshops, the Department will continue to accept comments, data, and information regarding the issues addressed at the workshops, but such information must be received by no later than Friday, December 20, 2002, in order to ensure full consideration during the Department's development of revised program guidelines, which are expected to be formally proposed early in 2003.

ADDRESSES: The workshops will be held at the following locations:

Washington DC, Hilton Crystal City at National Airport, 2399 Jefferson Davis Highway, Arlington, VA 22202.

Chicago, Donald E. Stephens Convention Center, Hotel Sofitel Chicago O'Hare, 5555 and 5550 North River Road, Rosemont, IL 60018.

San Francisco, Best Western Grosvenor Hotel, 380 South Airport Boulevard So., San Francisco, CA 94080.

Houston, Houston Airport Marriott, 18700 John Kennedy Blvd., Houston, TX 77032.

Persons interested in registering for any of these four workshops or in obtaining more information about DOE's efforts to improve the existing Voluntary Greenhouse Gas Reporting Program should visit the following website: http://www.pi.energy.gov/enhancingGHGregistry/index.html. Inquiries regarding these workshops may be e-mailed to 1605b.workshops@hq.doe.gov. Hardcopy inquiries regarding these workshops may also be mailed to Mark Friedrichs, PT-20 Office of Policy and International Affairs, U.S. Department of Energy, 1000 Independence Avenue, SW., Washington, DC, 20585-0121. [Note: due to precautionary screening of mail to Federal offices, some delays should be expected.] Any follow-up comments or other relevant information should be e-mailed to ghgregistry.comments@hq.doe.gov.

The website will be used to make available draft and final workshop agendas, information on lodging, any background papers that are made available before the workshops, transcripts of each workshop, and comments or other information submitted after the workshops. For persons without ready access to the internet, this website can be viewed at the Freedom of Information Reading Room (Room 1E-190) at the U.S. Department of Energy, Forrestal Building, 1000 Independence Avenue, SW., Washington, DC 20585, between the hours of 9 a.m. and 4 p.m., Monday through Friday, except Federal holidays.

FOR FURTHER INFORMATION CONTACT: Mark Friedrichs, PI-20, Office of Policy and International Affairs, U.S. Department of Energy, 1000 Independence Avenue, SW., Washington, DC 20585-0121, e-mail: 1605b.workshops@hq.doe.gov or phone 202-481-8550.

SUPPLEMENTARY INFORMATION: DOE's existing Voluntary Greenhouse Gas Reporting Program was mandated by section 1605(b) of Energy Policy Act of 1992. The current program operates under guidelines issued by the Department on October 19, 1994 (59 FR 52769). These guidelines give program participants considerable flexibility. As a consequence of this flexibility, the reports of greenhouse gas emissions or emissions reductions submitted to DOE are often not consistent, complete or verifiable.

On February 14, 2002, the President:

Directed the Secretary of Energy, in consultation with the Secretary of Commerce, the Secretary of Agriculture, and the Administrator of the Environmental Protection Agency, to propose improvements of the current voluntary emissions reduction registration program under section 1605(b) of the 1992 Energy Policy Act within 120 days. These improvements will enhance measurement accuracy, reliability, and verifiability, working with and taking into account emerging domestic and international approaches.

Directed the Secretary of Energy to recommend reforms to ensure that businesses and individuals that register reductions are not penalized under a future climate policy and to give transferable credits to companies that can show real emissions reductions.

To achieve these objectives it will be necessary to supplement or supplant the existing guidelines with new, more rigorous reporting requirements.

On May 6, 2002, the Department of Energy solicited public comments on various issues relevant to its efforts to implement the President's directives.

After consideration of these public comments, the Secretaries of Energy, Commerce and Agriculture, and the Administrator of the Environmental Protection Agency wrote the President on July 8, 2002, stating that improvements to the existing Voluntary Greenhouse Gas Reporting Program should:

1. Develop fair, objective, and practical methods for reporting baselines, reporting boundaries, calculating real results, and awarding transferable credits for actions that lead to real reductions.

2. Standardize widely accepted, transparent accounting methods.

3. Support independent verification of registry reports.

4. Encourage reporters to report greenhouse gas intensity (emissions per unit of output) as well as emissions or emissions reductions.

5. Encourage corporate or entity-wide reporting.

6. Provide credits for actions to remove carbon dioxide from the atmosphere as well as for actions to reduce emissions.

7. Develop a process for evaluating the extent to which past reductions may qualify for credits.

8. Assure the voluntary reporting program is an effective tool for reaching the 18 percent goal.

9. Factor in international strategies as well as State-level efforts.

10. Minimize transactions costs for reporters and administrative costs for the Government, where possible, without compromising the foregoing recommendations.

These workshops are intended to help us determine the specific improvements that should be made to the Department's guidelines by encouraging open dialogue among all of the utilities, businesses, institutions, environmental groups, individuals and other affected interests. Through these workshops, we hope to receive as much constructive input to this process as possible.

The Presidential directives that began our review of the existing program guidelines, and the objectives identified in the July 8 letter to the President, are the starting point of our current efforts. Most of the issues that need to be addressed and resolved as part of this process fall into two broad categories: Emission Reporting and Emission Reductions. In both areas, we will be endeavoring to develop more rigorous guidelines that will help encourage future reports that are reliable, objective and verifiable. Another key objective is that the guidelines should encourage full reporting by the broadest possible spectrum of utilites, businesses and institutions responsible for greenhouse gas emissions.

A full agenda and various other materials will be made available prior to the workshop at: http://www.pi.energy.gov/enhancingGHGregistry/index.html.

Issued in Washington, DC on 10 October, 2002.
Barton W. Marcois,
Principal Deputy Assistant Secretary, Office of Policy and International Affairs.

[FR Doc. 02-26396 Filed 10-16-02; 8:45 am]

BILLING CODE 6450-01-M